DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of one individual that has been placed on OFAC's Specially Designated Nationals and Blocked Persons List based on OFAC's determination that one or more applicable legal criteria were satisfied. All property and interests in property subject to U.S. jurisdiction of this individual are blocked, and U.S. persons are generally prohibited from engaging in transactions with the individual.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website (https://ofac.treasury.gov/).

Notice of OFAC Action

On August 23, 2023, OFAC determined that the property and interests in property subject to U.S. jurisdiction of the following individual are blocked under the relevant sanctions authorities listed below.

Individual

1. SEMENOV, Roman (a.k.a. “POMA”; a.k.a. “ROMA”), Dubai, United Arab Emirates; DOB 08 Nov 1987; nationality Russia; Email Address semenov.roma@gmail.com; alt. Email Address semenovroma@gmail.com; alt. Email Address semenov.roman@mail.ru; alt. Email Address poma@tornado.cash; Gender Male; Digital Currency Address—ETH 0xdcbEfFBECcE100cCE9E4b153C4e15cB885643193; alt. Digital Currency Address—ETH 0x5f48c2a71b2cc96e3f0ccae4e39318ff0dc375b2; alt. Digital Currency Address—ETH 0x5a7a51bfb49f190e5a6060a5bc6052ac14a3b59f; alt. Digital Currency Address—ETH 0xed6e0a7e4ac94d976eebfb82ccf777a3c6bad921; alt. Digital Currency Address—ETH 0x797d7ae72ebddcdea2a346c1834e04d1f8df102b; alt. Digital Currency Address—ETH 0x931546D9e66836AbF687d2bc64B30407bAc8C568; alt. Digital Currency Address—ETH 0x43fa21d92141BA9db43052492E0DeEE5aa5f0A93; alt. Digital Currency Address—ETH 0x6be0ae71e6c41f2f9d0d1a3b8d0f75e6f6a0b46e; Secondary sanctions risk: North Korea Sanctions Regulations, sections 510.201 and 510.210; Transactions Prohibited For Persons Owned or Controlled By U.S. Financial Institutions: North Korea Sanctions Regulations section 510.214; Passport 731969851 (Russia) (individual) [DPRK3] [CYBER2].

Designated pursuant to section l(a)(iii)(B) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659 (E.O. 13694, as amended) for having materially assisted, sponsored, or provided financial, material, or technological support for, or goods or services to or in support of, a person whose property and interests in property are blocked pursuant to E.O. 13694, as amended.

Also designated pursuant to section 2(a)(vii) of Executive Order 13722 of March 15, 2016, “Blocking Property of the Government of North Korea and the Workers' Party of Korea, and Prohibiting Certain Transactions with Respect to North Korea,” 81 FR 14943, 3 CFR, 2016 Comp., p. 446 (E.O. 13722), for having materially assisted, sponsored, or provided financial, material, or technological support for, or goods or services to or in support of, the Government of North Korea, a person whose property and interests in property are blocked pursuant to E.O. 13722.

Dated: August 23, 2023.
Bradley T. Smith,
Deputy Director, Office of Foreign Assets Control, U.S. Department of the Treasury.

[FR Doc. 2023-18600 Filed 8-28-23; 8:45 am]

BILLING CODE 4810-AL-P